POSTAL REGULATORY COMMISSION

Field Hearings

AGENCY: Postal Regulatory Commission.

ACTION: Notice of field hearings.

DATES: (1.) September 16, 2009: field hearing, Independence, Ohio (1 p.m.) (2.) September 23, 2009, field hearing, Bronx, New York.

FOR FURTHER INFORMATION CONTACT: Ann C. Fisher, 202-789-6803 or Ann.Fisher@prc.gov.

SUPPLEMENTARY INFORMATION: This notice informs the public of the Commission's intention to hold public field hearings to supplement the record in this proceeding. The first field hearing will take place on Wednesday, September 16, 2009 at the Independence (Ohio) Civic Center. The hearing is scheduled to begin at 1 p.m. and to conclude at 4 p.m. The address for the Independence Civic Center is 6363 Selig Drive, Independence, Ohio 44131.

The second field hearing will take place on Wednesday, September 23, 2009 at O'Keefe Commons in O'Hare Hall on Fordham University's Rose Hill Campus. The hearing is scheduled to begin at 1 p.m. and to conclude at 4 p.m. The address for O'Hare Hall is 441 East Fordham Road, Bronx, New York 10458.

The format for presentations at the field hearings will consist of opening remarks by Chairman Ruth Y. Goldway and other Commissioners, testimony from invited witnesses, a question-and-answer session, and closing remarks. Witness lists and any changes affecting the dates, times or locations for the field hearings will be posted on the Commission's Web site.

The public is invited to attend the field hearings. Any attendee who needs special accommodations or has other questions about the field hearings should contact Ann C. Fisher, Director of Public Affairs and Government Relations, 202-789-6803 or Ann.Fisher@prc.gov, in advance.

Dated: September 10, 2009.
Judith M. Grady,
Acting Secretary.

[FR Doc. E9-22268 Filed 9-14-09; 8:45 am]

BILLING CODE 7710-FW-P